DEPARTMENT OF JUSTICE

Antitrust Division

Notice Pursuant to the National Cooperative Research and Production Act of 1993—American Type Culture Collection

Notice is hereby given that, on August 2, 2007, pursuant to Section 6(a) of the National Cooperative Research and Production Act of 1993, 15 U.S.C. 4301 et seq. (“the Act”), American Type Culture Collection (“ATCC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: American Type Culture Collection, Manassas, VA. The nature and scope of ATCC's standards development activities are: ATCC will develop consensus standards for biomaterials and related processes including their development, identification, authentication, production, storage, distribution and transfer. Biomaterials include, but are not limited to, bacteria, fungi, yeasts, cell lines, toxins, protozoa, viruses and molecular products such as DNA.

Patricia A. Brink,
Deputy Director of Operations, Antitrust Division.

[FR Doc. 07-4438 Filed 9-10-07; 8:45 am]

BILLING CODE 4410-11-M